INTERNATIONAL TRADE COMMISSION

[Investigation No. 337-TA-1338]

Certain Smart Televisions; Notice of a Commission Determination Not To Review an Initial Determination Granting a Joint Motion To Terminate the Investigation in its Entirety; Termination of Investigation

AGENCY: U.S. International Trade Commission.

ACTION: Notice.

SUMMARY: Notice is hereby given that the U.S. International Trade Commission has determined not to review the presiding administrative law judge's (“ALJ”) initial determination (“ID”) (Order No. 22) granting a joint motion to terminate the investigation in its entirety based upon settlement.

FOR FURTHER INFORMATION CONTACT: Panyin A. Hughes, Office of the General Counsel, U.S. International Trade Commission, 500 E Street SW, Washington, DC 20436, telephone (202) 205-3042. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On October 21, 2022, the Commission instituted this investigation based on a complaint filed by Maxell, Ltd. (“Maxell”) of Kyoto, Japan. 87 FR 64110 (Oct. 21, 2022). The complaint alleged violations of section 337 based on the importation into the United States, the sale for importation, or the sale within the United States after importation of certain smart televisions by reason of infringement of one or more of claim 4 of U.S. Patent No. 8,549,109; claims 2, 4, 5, 7, and 8 of U.S. Patent No. 8,170,394; claim 1 of U.S. Patent No. 10,958,971; and claims 1 and 21 of U.S. Patent No. 11,017,815. Id. The Commission's notice of investigation named VIZIO, Inc. (“VIZIO”) of Irvine, California as the sole respondent. The Office of Unfair Import Investigations was not named as a party in this investigation. Id.

On August 25, 2023, Maxell and VIZIO jointly moved to terminate the investigation in its entirety based upon reaching a settlement agreement.

On August 30, 2023, the ALJ issued the subject ID granting the motion. The ID observed that Commission Rule 210.21(a)(2) provides that “[a]ny party may move at any time to terminate an investigation in whole or in part as to any or all respondents on the basis of settlement, a licensing or other agreement . . . .” ID at 1 (citing 19 CFR 210.21(a)(2)). The ID found that in compliance with 19 CFR 210.21(b)(1), the parties certify that “there are no other agreements, written or oral, express or implied, between the parties concerning the subject matter of the investigation.” Id. The parties also submitted confidential and public versions of the settlement agreement. Id. The ID further found that “termination of this investigation by settlement will not adversely affect the public interest.” Id. (citing 19 CFR 210.50(b)(2)). No one petitioned for review of the subject ID.

The Commission has determined not to review the subject ID. The investigation is hereby terminated in its entirety.

The Commission vote for this determination took place on September 22, 2023.

The authority for the Commission's determination is contained in section 337 of the Tariff Act of 1930, as amended (19 U.S.C. 1337), and in Part 210 of the Commission's Rules of Practice and Procedure (19 CFR part 210).

By order of the Commission.
Issued: September 25, 2023.
Lisa Barton,
Secretary to the Commission.

[FR Doc. 2023-21260 Filed 9-27-23; 8:45 am]

BILLING CODE 7020-02-P